DEPARTMENT OF TRANSPORTATION

Federal Aviation Administration

14 CFR Part 25

[Docket No. FAA-2016-9403; Special Conditions No. 25-643-SC]

Special Conditions: Embraer, S.A., Model ERJ 190-300 Airplane; Dive-Speed Definition With High-Speed-Protection System

AGENCY: Federal Aviation Administration (FAA), DOT.

ACTION: Final special conditions; correction.

SUMMARY: This document corrects an error that appeared in Docket No. FAA-2016-9403, Special Conditions No. 25-643-SC, which was published in the Federal Register on March 17, 2017 (82 FR 14117). The error is an incorrect citation of a section in a cited advisory circular.

DATES: The effective date of this correction is November 1, 2017.

FOR FURTHER INFORMATION CONTACT: Greg Schneider, FAA, Airframe and Cabin Safety Section, AIR-675, Transport Standards Branch, Policy and Innovation Division, Aircraft Certification Service, 1601 Lind Avenue SW., Renton, Washington, 98057-3356; telephone 425-227-2116; facsimile 425-227-1320.

SUPPLEMENTARY INFORMATION:

Background

On March 17, 2017, the Federal Register published a document designated as Docket No. FAA-2016-9403, Final Special Conditions No. 25-643-SC (82 FR 14117). The document issued special conditions pertaining to dive-speed definition with a high-speed-protection system. As published, the document contained an error in a citation to an advisory circular section.

Correction

In the final special conditions document (FR Doc. 2017-05329), published on March 17, 2017 (82 FR 14117), make the following correction.

On page 14119, second column, correct the last sentence in special condition no. 2 to read:

The upset maneuvers described in Advisory Circular 25-7C, “Flight Test Guide for Certification of Transport Category Airplanes,” Chapter 2, section 8, paragraph 32, sub-paragraphs c(3)(a) and (c), may be used to comply with this requirement.

Issued in Renton, Washington, on October 25, 2017.
Victor Wicklund,
Manager, Transport Standards Branch, Policy and Innovation Division, Aircraft Certification Service.

[FR Doc. 2017-23697 Filed 10-31-17; 8:45 am]

BILLING CODE 4910-13-P